DEPARTMENT OF TRANSPORTATION

Office of the Secretary

Aviation Proceedings, Agreements Filed During the Week Ending January 28, 2000

The following Agreements were filed with the Department of Transportation under the provisions of 49 U.S.C. Sections 412 and 414. Answers may be filed within 21 days after the filing of the application.

Docket Number: OST-2000-6826.

Dated Filed: January 27, 2000.

Parties: Members of the International Air Transport Association.

Subject: PTC3 0408 dated 28 January 2000; Mail Vote 060—Resolution 043i; TC3 Intermediate Class Fares between Japan, Korea and South East Asia—Amend Fares from Singapore to Japan; Intended effective date: 1 April 2000.

Docket Number: OST-2000-6830.

Dated Filed: January 27, 2000.

Parties: Members of the International Air Transport Association.

Subject: CAC/27/Meet/008/Expedited/99; Cargo Agency Expedited Resolution 809; Intended effective date: January 1, 2000.

Docket Number: OST-2000-6837.

Dated Filed: January 28, 2000.

Parties: Members of the International Air Transport Association.

Subject: CTC Comp 0052 dated 12 August 1997—Mail Vote 875; Resolution 116ss; Airline Justifications; Intended effective date—Upon Government Approvals.

Dorothy W. Walker,
Federal Register Liaison.

[FR Doc. 00-2775 Filed 2-7-00; 8:45 am]

BILLING CODE 4910-62-P